DEPARTMENT OF THE INTERIOR

Bureau of Indian Affairs

Final Programmatic Environmental Impact Statement for the Proposed Coeur d'Alene Tribal Integrated Resource Management Plan, Coeur d'Alene Reservation, Idaho

AGENCY: Bureau of Indian Affairs, Interior.

ACTION: Notice.

SUMMARY: This notice advises the public that the Bureau of Indian Affairs (BIA) intends to file a Final Programmatic Environmental Impact Statement (FPEIS) with the U.S. Environmental Protection Agency for the proposed Coeur d'Alene Tribal Integrated Resource Management Plan (IRMP), Coeur d'Alene Reservation, Idaho, and that the FPEIS is now available to the public. The FPEIS analyzes the impacts of four alternative approaches to managing the natural, environmental and cultural resources of the Coeur d'Alene Tribe. The purpose of the proposed action, approval of the tribe's implementation of the IRMP for a period of 20 years, is to protect and sustain these resources.

DATES: The Record of Decision on the proposed action will be issued on or after November 19, 2007. Any comments on the FPEIS must arrive by November 19, 2007.

ADDRESSES: You may mail or hand deliver written comments to Superintendent, Coeur d'Alene Agency, Bureau of Indian Affairs, P.O. Box 408, 850 A Street, Plummer, Idaho 83851.

Any person wishing a copy of this FPEIS should immediately write to the Coeur d'Alene Tribe, Attention: Tiffany Allgood, P.O. Box 408, 850 A Street, Plummer, Idaho 83851, or call her at the number provided below.

FOR FURTHER INFORMATION CONTACT: Tiffany Allgood, (208) 686-8802.

SUPPLEMENTARY INFORMATION: The FPEIS analyzes the impacts of four possible alternatives for the IRMP, as follows:

Alternative A—This is the No Action Alternative. Under this alternative, there would be no change in the existing management. Current land use, recreation and resource management activities would continue using existing laws, policies, land use practices, management plans and agreements.

Alternative B—This is the preferred alternative. It would provide for the enhancement of natural and cultural resources on the reservation, while maintaining the rural character of the reservation. The reservation ecology and biodiversity would be managed to ensure their restoration and maintenance to provide for tribal subsistence and cultural uses of the resources. Under this alternative, 11,136 acres would be available for development, 76,149 acres would be managed for conservation, 661,123 acres would retain their rural character, 92,565 acres would be managed for agricultural uses and 95,558 acres would be forested.

Alternative C—This alternative emphasizes natural resource conservation, while maintaining a working landscape for agriculture and forestry where compatible. New development would be limited to designated and environmentally suitable areas to minimize resource disturbances and adverse environmental impacts. Under this alternative, 5,401 acres would be available for development, 172,502 acres would be managed for conservation values, 62,104 acres would be managed for agricultural uses and 96,569 acres would be forested.

Alternative D—This alternative would manage the Reservation to maximize growth and development where it is not in conflict with either the natural and cultural resources or existing land use designations and suitability. Under this alternative, 55,909 acres would be available for development, 9,215 acres would be managed for conservation values, 4,808 acres would maintain their rural character, 50,953 acres would be managed for recreational uses, 72,791 acres would be managed for agricultural uses and 123,634 acres would be forested.

Public Comment Availability

Comments, including names and addresses of respondents, will be available for public review at the BIA mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1502.1 of the Council on Environmental Quality Regulations (40 CFR parts 1500 through 1508) implementing the procedural requirements of the National Environmental Policy Act of 1969, as amended (42 U.S.C. 4321 et seq.), and the Department of Interior Manual (516 DM 1-6), and is in the exercise of authority delegated to the Principal Deputy Assistant Secretary—Indian Affairs by 209 DM 8.

Dated: August 23, 2007.
Carl J. Artman,
Assistant Secretary—Indian Affairs.

[FR Doc. E7-20683 Filed 10-18-07; 8:45 am]

BILLING CODE 4310-W7-P